DEPARTMENT OF COMMERCE

International Trade Administration

[A-533-824]

Antidumping Duty Order on Polyethylene Terephthalate Film, Sheet, and Strip From India: Preliminary Results of Changed Circumstances Review

AGENCY: Enforcement and Compliance, International Trade Administration, Department of Commerce.

SUMMARY: The U.S. Department of Commerce (Commerce) preliminarily determines that Garware Hi-Tech Films Limited (Garware Hi-Tech) is the successor-in-interest to Garware Polyester Limited (Garware Polyester) for purposes of the antidumping duty (AD) order on polyethylene terephthalate film, sheet, and strip (PET film) from India. Accordingly, Garware Hi-Tech is entitled to Garware Polyester's AD cash deposit rates with respect to entries of subject merchandise in the above referenced proceedings. Interested parties are invited to comment on these preliminary results.

DATES: Applicable February 26, 2024.

FOR FURTHER INFORMATION CONTACT: Jacqueline Arrowsmith, AD/CVD Operations, Office VII, Enforcement and Compliance, International Trade Administration, U.S. Department of Commerce, 1401 Constitution Avenue NW, Washington, DC 20230; telephone: (202) 482-5255.

SUPPLEMENTARY INFORMATION:

Background

On August 22, 2023, Commerce published the initiation of a changed circumstances review (CCR) on the AD order ¹ of PET film from India for Garware Hi-Tech.² Commerce declined to combine the Initiation Notice with the preliminary results of the CCR, citing the need to issue a supplemental questionnaire to Garware Hi-Tech regarding its ownership and management structure.³ On September 12, 2023, Commerce issued a supplemental questionnaire to Garware Hi-Tech seeking clarification about ownership and management structure and its suppliers.⁴ On September 25, 2023, Garware Hi-Tech timely submitted its response to this questionnaire.⁵ No other interested party submitted comments or factual information regarding Garware Hi-Tech's request.

¹ See Notice of Amended Final Antidumping Duty Determination of Sales at Less Than Fair Value and Antidumping Duty Order: Polyethylene Terephthalate Film, Sheet, and Strip from India, 67 FR 44175 (July 1, 2002) (Order).

² The notice of initiation of this CCR referred to this company as Garware Hi-Tech. We clarify that the full name of the company requesting this CCR is Garware Hi-Tech Films Limited, hereafter abbreviated as Garware Hi-Tech. See Polyethylene Terephthalate Film, Sheet and Strip from India: Initiation of Antidumping Duty Changed Circumstances Review; Garware, 88 FR 57090 (August 22, 2023) (Initiation Notice).

³ Id.

⁴ See Commerce's Letter, “Changed Circumstances Review of the Antidumping Duty Order on Polyethylene Terephthalate Film, Sheet and Strip (PET Film) from India: Supplemental Questionnaire,” dated September 12, 2023.

⁵ See Garware Hi-Tech's Letter, “Garware Hi-Tech Films Limited's request for a Changed Circumstances Review Response to 1st Supplemental Questionnaire,” dated September 25, 2023.

Scope of the Order

The merchandise subject to the Order is PET film. The product is currently classifiable under subheading 3920.62.00.90 of the Harmonized Tariff Schedule of the United States (HTSUS). Although the HTSUS number is provided for convenience and for customs purposes, the full written product description, available in the Preliminary Decision Memorandum, remains dispositive.⁶

⁶ See Memorandum, “Polyethylene Terephthalate Film, Sheet, and Strip from India: Preliminary Results of Changed Circumstances Review,” dated concurrently with, and hereby adopted by, this notice (Preliminary Decision Memorandum).

Legal Framework

In this CCR, pursuant to section 751(b) of the Tariff Act of 1930, as amended (the Act), Commerce conducted a successor-in-interest analysis. In determining whether one company is the successor-in-interest to another company as part of an AD proceeding, Commerce examines several factors including, but not limited to, changes in (1) management and ownership; (2) production facilities; (3) supplier relationships; and (4) customer base.⁷ Although no single, or even several, of these factors will necessarily provide a dispositive indication of succession, generally, Commerce will consider a company to be the successor-in-interest if its resulting operation is not materially dissimilar to that of its predecessor.⁸ Thus, if the “totality of circumstances” demonstrate that, with respect to the production and sale of the subject merchandise, the new company operates as essentially the same business entity as the prior company, Commerce will assign the successor-in-interest the cash deposit rate of its predecessor.⁹

⁷ See, e.g., Ball Bearings and Parts Thereof from France: Final Results of Changed-Circumstances Review, 75 FR 34688 (June 18, 2010), and accompanying Issues and Decision Memorandum at Comment 1.

⁸ See, e.g., Fresh and Chilled Atlantic Salmon from Norway; Final Results of Changed Circumstances Antidumping Duty Administrative Review, 64 FR 9979, 9979-80 (March 1, 1999).

⁹ Id.; see also Brass Sheet and Strip from Canada; Final Results of Antidumping Duty Administrative Review, 57 FR 20460 (May 13, 1992) at Comment 1.

Preliminary Results of Review

We preliminarily determine that Garware Hi-Tech is the successor-in-interest to Garware Polyester. Record evidence submitted by Garware Hi-Tech indicates that, based on the totality of the circumstances under Commerce's successor-in-interest criteria, Garware Hi-Tech operates as materially the same business entity as Garware Polyester with respect to the production and sale of subject merchandise. For a complete discussion of the information that Garware Hi-Tech provided and the complete successor-in-interest analysis, see the Preliminary Decision Memorandum. A list of topics included in the Preliminary Decision Memorandum is included as an attachment to this notice. The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx.

Public Comment

Case briefs or other written comments may be submitted to the Assistant Secretary for Enforcement and Compliance no later than 30 days after the date of publication of this notice.¹⁰ Rebuttal briefs, limited to issues raised in the case briefs, may be filed not later than five days after the date for filing case briefs.¹¹ Interested parties who submit case briefs or rebuttal briefs in this proceeding must submit: (1) a table of contents listing each issue; and (2) a table of authorities.¹²

¹⁰ Commerce is exercising its discretion under 19 CFR 351.309(c)(1)(i) to alter the time limit for the filing of case briefs.

¹¹ See 19 CFR 351.309(d); see also Administrative Protective Order, Service, and Other Procedures in Antidumping and Countervailing Duty Proceedings, 88 FR 67069, 67077 (September 29, 2023) (APO and Service Final Rule).

¹² See 19 CFR 351.309(c)(2) and (d)(2).

As provided under 19 CFR 351.309(c)(2) and (d)(2), in prior proceedings we have encouraged interested parties to provide an executive summary of their brief that should be limited to five pages total, including footnotes. In this review, we instead request that interested parties provide at the beginning of their briefs a public, executive summary for each issue raised in their briefs.¹³ Further, we request that interested parties limit their executive summary of each issue to no more than 450 words, not including citations. We intend to use the executive summaries as the basis of the comment summaries included in the issues and decision memorandum that will accompany the final results in this CCR. We request that interested parties include footnotes for relevant citations in the executive summary of each issue. Note that Commerce has amended certain of its requirements pertaining to the service of documents in 19 CFR 351.303(f).¹⁴

¹³ We use the term “issue” here to describe an argument that Commerce would normally address in a comment of the Issues and Decision Memorandum.

¹⁴ See APO and Final Service Rule.

Pursuant to 19 CFR 351.310(c), interested parties who wish to request a hearing, limited to issues raised in the case and rebuttal briefs, must submit a written request to the Assistant Secretary for Enforcement and Compliance, filed electronically via ACCESS, within 30 days of publication of this notice. Requests should contain the following information: (1) the party's name, address, and telephone number; (2) the number of participants; and (3) a list of issues to be discussed. If a request for a hearing is made, Commerce will inform parties of the time and date for the hearing.

Final Results of Review

Consistent with 19 CFR 351.216(e), we intend to issue the final results of this CCR no later than 270 days after the date on which this review was initiated. If we continue to find that Garware Hi-Tech is the successor-in-interest to Garware Polyester, we will assign Garware Hi-Tech the cash deposit rate currently assigned to Garware Polyester (i.e., 4.45 percent).¹⁵

¹⁵ See Polyethylene Terephthalate Film, Sheet, and Strip from India: Final Results of Antidumping Duty Administrative Review; 2017-2018, 85 FR 14883, 14884 (March 16, 2020), as amended by Polyethylene Terephthalate Film, Sheet, and Strip from India: Final Results of Antidumping Duty Administrative Review; 2017-2018; Correction, 88 FR 87751 (December 19, 2023).

Notification to Interested Parties

We are issuing and publishing these preliminary results in accordance with sections 751(b)(1) and 777(i)(1) of the Act, and 19 CFR 351.221(b)(4).

Dated: February 20, 2024.
Ryan Majerus,
Deputy Assistant Secretary for Policy and Negotiations, performing the non-exclusive functions and duties of the Assistant Secretary for Enforcement and Compliance.

Appendix

List of Topics Discussed in the Preliminary Decision Memorandum

I. Summary

II. Background

III. Scope of the Order

IV. Successor-in-Interest Determination

V. Recommendation

[FR Doc. 2024-03860 Filed 2-23-24; 8:45 am]

BILLING CODE 3510-DS-P